ENVIRONMENTAL PROTECTION AGENCY

[EPA-HQ-OPPT-2017-0002; FRL-9959-36]

Risk Evaluation Scoping Efforts Under TSCA for Ten Chemical Substances; Reopening of Comment Period

AGENCY: Environmental Protection Agency (EPA).

ACTION: Notice; Reopening of comment period.

SUMMARY: EPA issued a notice in the Federal Register on January 19, 2017, concerning a February 14, 2017 public meeting and solicitation of comments to receive input and information to assist the Agency in its efforts to establish the scope of risk evaluations under development for the ten chemicals substances designated on December 19, 2016 for risk evaluations. The comment period closed on March 1, 2017. This document reopens the comment period related to the public meeting and for dockets for each of the ten chemical substances for which risk evaluations have begun for 14 days, from March 1, 2017, to March 15, 2017. EPA is reopening the comment period in response to a request from the interested public.

DATES: Comments, identified by the chemical-specific dockets referenced in section IV.C. of the January 19, 2017 meeting notice, must be received by March 15, 2017.

ADDRESSES: Follow the detailed instructions provided under ADDRESSES in the Federal Register document of January 19, 2017 (82 FR 6545) (FRL-9958-33).

FOR FURTHER INFORMATION CONTACT:

For technical information contact: Sheila Canavan, Chemical Control Division (7405M), Office of Pollution Prevention and Toxics, Environmental Protection Agency, 1200 Pennsylvania Ave. NW., Washington, DC 20460-0001; telephone number: (202) 566-1978; email address: Canavan.Sheila@epa.gov.

For general information contact: The TSCA-Hotline, ABVI-Goodwill, 422 South Clinton Ave., Rochester, NY 14620; telephone number: (202) 554-1404; email address: TSCA-Hotline@epa.gov.

SUPPLEMENTARY INFORMATION: This document reopens the public comment period established in the Federal Register document of January 19, 2017. In that document, EPA announced a February 14, 2017 public meeting and solicitation of comments to receive input and information to assist the Agency in its efforts to establish the scope of risk evaluations under development for the ten chemicals substances designated on December 19, 2016 for risk evaluations. EPA is hereby reopening the comment period for that meeting and for each of the ten chemical substances for which risk evaluations have begun from March 1, 2017, to March 15, 2017.

To submit comments, or access the docket, please follow the detailed instructions provided under ADDRESSES in the Federal Register document of January 19, 2017. If you have questions, consult the technical person listed under FOR FURTHER INFORMATION CONTACT.

Authority: 15 U.S.C. 2605.

Dated: February 28, 2017.
Wendy Cleland-Hamnett,
Acting Assistant Administrator, Office of Chemical Safety and Pollution Prevention.

[FR Doc. 2017-04316 Filed 3-3-17; 8:45 am]

BILLING CODE 6560-50-P